DEPARTMENT OF HEALTH AND HUMAN SERVICES

Food and Drug Administration

[FDA 225-06-8403]

Memorandum of Understanding Between the U.S. Food and Drug Administration, the National Cancer Institute, and the National Institute of Standards and Technology

AGENCY: Food and Drug Administration, HHS.

ACTION: Notice.

SUMMARY: The purpose of this Memorandum of Understanding (MOU) is to set forth an agreement between the National Cancer Institute (NCI), the National Institute of Standards and Technology (NIST), and the Food and Drug Administration (FDA) (collectively “the Parties”, or individually as a “Party”) regarding the roles, responsibilities, and financial commitments of each Party relating to the collaboration through working groups and steering committees to develop strategic plans, set priorities, and leverage resources and expertise from multiple sources, including the private sector, toward the goal of facilitating the development of nanotechnologies that constitute novel research tools and safer, more effective cancer therapies by establishing a framework for effective risk identification, assessment and evaluation of emerging products based on nanotechnology. This collaboration among the Parties will be focused primarily on the Nanotechnology Characterization Laboratory and directly related activities.

DATES: The agreement became effective June 22, 2006.

FOR FURTHER INFORMATION CONTACT:

For FDA: Wendy R. Sanhai, Senior Scientific Advisor, Office of the Commissioner (HF-18), Food and Drug Administration, 5600 Fishers Lane, Rockville, MD 20857, 301-827-7867, FAX: 301-443-9718.

For NCI: Gregory J. Downing, Director, Office of Technology and Industrial Relations, Office of the Director, National Cancer Institute, 31 Center Dr., rm. 10A52, Bethesda, MD 20892, 301-496-1550, FAX: 301-496-7807.

For NIST: Debra Kaiser, Chief, Ceramics Division, Materials Science and Engineering Laboratory, National Institute of Standards and Technology, 100 Bureau Dr., Stop 8522, Gaithersburg, MD 20899, 301-975-6119, FAX: 301-975-5334.

SUPPLEMENTARY INFORMATION: In accordance with 21 CFR 20.108(c), which states that all written agreements and MOUs between FDA and others shall be published in the Federal Register, the agency is publishing notice of this MOU.

Dated: August 16, 2006.
Jeffrey Shuren,
Assistant Commissioner for Policy.

BILLING CODE 4160-01-S

[FR Doc. 06-7127 Filed 8-23-06; 8:45 am]

BILLING CODE 4160-01-C